DEPARTMENT OF HEALTH AND HUMAN SERVICES

National Institutes of Health

National Institute of Mental Health; Notice of Closed Meetings

Pursuant to section 10(d) of the Federal Advisory Committee Act, as amended, notice is hereby given of meetings of the Board of Scientific Counselors, National Institute of Mental Health. The meetings will be closed to the public as indicated below in accordance with the provisions set forth in sections 552b(c)(4) and 552b(c)(6), Title 5 U.S.C., as amended for the review, discussion, and evaluation of individual grant applications conducted by the NATIONAL INSTITUTE OF MENTAL HEALTH, including consideration of personnel qualifications and performance, and the competence of individual investigators, the disclosure of which would constitute a clearly unwarranted invasion of personal privacy.

Name of Committee: Board of Scientific Counselors, National Institute of Mental Health.

Date: January 29-31, 2020.

Time: January 29, 2020, 5:30 p.m. to 8:55 p.m.

Agenda: To review and evaluate personnel qualifications and performance, and competence of individual investigators.

Place: Hyatt Regency Bethesda, Regency IV Conference Room, 7400 Wisconsin Avenue, Bethesda, MD 20814.

Time: January 30, 2020, 8:45 a.m. to 6:00 p.m.

Agenda: To review and evaluate personnel qualifications and performance, and competence of individual investigators.

Place: PORTER NEUROSCIENCE RESEARCH CENTER, Building 35A, GE 620/630/640, 35 Convent Drive, Bethesda, MD 20892.

Time: January 31, 2020, 9:00 a.m. to 1:00 p.m.

Agenda: To review and evaluate personnel qualifications and performance, and competence of individual investigators.

Place: PORTER NEUROSCIENCE RESEARCH CENTER, Building 35A, GE 620/630/640, 35 Convent Drive, Bethesda, MD 20892.

Contact Person: Jennifer E. Mehren, Ph.D., Scientific Advisor, Division of Intramural Research Programs, National Institute of Mental Health, NIH, 35A Convent Drive, Room GE 412, Bethesda, MD 20892-3747, 301-496-3501, mehrenj@mail.nih.gov.

Name of Committee: Board of Scientific Counselors, National Institute of Mental Health.

Date: June 2-4, 2020.

Time: June 02, 2020, 9:00 a.m. to 5:00 p.m.

Agenda: To review and evaluate personnel qualifications and performance, and competence of individual investigators.

Place: PORTER NEUROSCIENCE RESEARCH CENTER, Building 35A, GE 620/630/640, 35 Convent Drive, Bethesda, MD 20892.

Time: June 03, 2020, 9:00 a.m. to 5:00 p.m.

Agenda: To review and evaluate personnel qualifications and performance, and competence of individual investigators.

Place: PORTER NEUROSCIENCE RESEARCH CENTER, Building 35A, GE 620/630/640, 35 Convent Drive, Bethesda, MD 20892.

Time: June 04, 2020, 9:00 a.m. to 5:00 p.m.

Agenda: To review and evaluate personnel qualifications and performance, and competence of individual investigators.

Place: PORTER NEUROSCIENCE RESEARCH CENTER, Building 35A, GE 620/630/640, 35 Convent Drive, Bethesda, MD 20892.

Contact Person: Jennifer E. Mehren, Ph.D., Scientific Advisor, Division of Intramural Research Programs, National Institute of Mental Health, NIH, 35A Convent Drive, Room GE 412, Bethesda, MD 20892-3747, 301-496-3501, mehrenj@mail.nih.gov.

Name of Committee: Board of Scientific Counselors, National Institute of Mental Health.

Date: October 20-22, 2020.

Time: October 20, 2020, 9:00 a.m. to 5:00 p.m.

Agenda: To review and evaluate personnel qualifications and performance, and competence of individual investigators.

Place: PORTER NEUROSCIENCE RESEARCH CENTER, Building 35A, GE 620/630/640, 35 Convent Drive, Bethesda, MD 20892.

Time: October 21, 2020, 9:00 a.m. to 5:00 p.m.

Agenda: To review and evaluate personnel qualifications and performance, and competence of individual investigators.

Place: PORTER NEUROSCIENCE RESEARCH CENTER, Building 35A, GE 620/630/640, 35 Convent Drive, Bethesda, MD 20892.

Time: October 22, 2020, 9:00 a.m. to 5:00 p.m.

Agenda: To review and evaluate personnel qualifications and performance, and competence of individual investigators.

Place: PORTER NEUROSCIENCE RESEARCH CENTER, Building 35A, GE 620/630/640, 35 Convent Drive, Bethesda, MD 20892.

Contact Person: Jennifer E. Mehren, Ph.D. Scientific Advisor, Division of Intramural Research Programs, National Institute of Mental Health, NIH, 35A Convent Drive, Room GE 412, Bethesda, MD 20892-3747, 301-496-3501, mehrenj@mail.nih.gov.

(Catalogue of Federal Domestic Assistance Program No. 93.242, Mental Health Research Grants, National Institutes of Health, HHS)

Dated: December 31, 2019.
Ronald J. Livingston, Jr.,
Program Analyst, Office of Federal Advisory Committee Policy.

[FR Doc. 2019-28516 Filed 1-3-20; 8:45 am]

BILLING CODE 4140-01-P